NUCLEAR REGULATORY COMMISSION

[NRC-2021-0001]

Sunshine Act Meetings

TIME AND DATE: Weeks of January 11, 18, 25, February 1, 8, 15, 22, 2021.

PLACE: Commissioners' Conference Room, 11555 Rockville Pike, Rockville, Maryland.

STATUS: Public.

Week of January 11, 2021

Friday, January 15, 2021

10:00 a.m. Affirmation Session (Public Meeting) (Tentative)

a. Entergy Nuclear Operations, Inc. (Indian Point Nuclear Generating Station Units 1, 2, and 3 and ISFSI), Memorandum and Order Ruling on Petitions to Intervene (Tentative)

b. FirstEnergy Companies and TMI-2 Solutions, LLC (Three Mile Island Nuclear Station, Units 1 and 2), Petition to Intervene in License Transfer Proceeding (Tentative)

c. In the Matter of Joseph Shea (Order Prohibiting Involvement in NRC-Licensed Activities Immediately Effective), Review of LBP-20-11 (Tentative)

(Contact: Wesley Held: 301-287-3591)

Additional Information: By a vote of 5-0 on January 13 and 14, 2021, the Commission determined pursuant to 5 U.S.C. 552b(e)(1) and 10 CFR 9.107 of the Commission's rules that the above referenced Affirmation Session be held with less than one week notice to the public. The meeting will be held on January 15, 2021. Due to COVID-19, there will be no physical public attendance. The public is invited to attend the Commission's meeting live via teleconference. Details for joining the teleconference in listen only mode can be found at https://www.nrc.gov/pmns/mtg.

Week of January 18, 2021

There are no meetings scheduled for the week of January 18, 2021.

Week of January 25, 2021—Tentative

There are no meetings scheduled for the week of January 25, 2021.

Week of February 1, 2021—Tentative

There are no meetings scheduled for the week of February 1, 2021.

Week of February 8, 2021—Tentative

There are no meetings scheduled for the week of February 8, 2021.

Week of February 15, 2021—Tentative

Thursday, February 18, 2021

10:00 a.m. Briefing on Equal Employment Opportunity, Affirmative Employment, and Small Business (Public Meeting) (Contact: Nadim Khan: 301-415-1119)

Additional Information: Due to COVID-19, there will be no physical public attendance. The public is invited to attend the Commission's meeting live by webcast at the Web address— https://video.nrc.gov/.

Week of February 22, 2021—Tentative

There are no meetings scheduled for the week of February 22, 2021.

CONTACT PERSON FOR MORE INFORMATION: For more information or to verify the status of meetings, contact Wesley Held at 301-287-3591 or via email at Wesley.Held@nrc.gov. The schedule for Commission meetings is subject to change on short notice.

The NRC Commission Meeting Schedule can be found on the internet at: https://www.nrc.gov/public-involve/public-meetings/schedule.html.

The NRC provides reasonable accommodation to individuals with disabilities where appropriate. If you need a reasonable accommodation to participate in these public meetings or need this meeting notice or the transcript or other information from the public meetings in another format (e.g., braille, large print), please notify Anne Silk, NRC Disability Program Specialist, at 301-287-0745, by videophone at 240-428-3217, or by email at Anne.Silk@nrc.gov. Determinations on requests for reasonable accommodation will be made on a case-by-case basis.

Members of the public may request to receive this information electronically. If you would like to be added to the distribution, please contact the Nuclear Regulatory Commission, Office of the Secretary, Washington, DC 20555, at 301-415-1969, or by email at Tyesha.Bush@nrc.gov.

The NRC is holding the meetings under the authority of the Government in the Sunshine Act, 5 U.S.C. 552b.

Dated: January 14, 2021.
For the Nuclear Regulatory Commission.
Wesley W. Held,
Technical Coordinator, Office of the Secretary.

[FR Doc. 2021-01225 Filed 1-14-21; 4:15 pm]

BILLING CODE 7590-01-P